DEPARTMENT OF COMMERCE

National Oceanic and Atmospheric Administration

50 CFR Part 648

[Docket No. 0907021105-0024-03]

RIN 0648-AY00

Fisheries of the Northeastern United States; Atlantic Mackerel, Squid, and Butterfish Fisheries; Amendment 10; Correction

AGENCY: National Marine Fisheries Service (NMFS), National Oceanic and Atmospheric Administration (NOAA), Commerce.

ACTION: Final rule; correction.

SUMMARY: On March 11, 2010, a final rule to implement Amendment 10 to the Atlantic Mackerel, Squid, and Butterfish (MSB) Fishery Management Plan (FMP) was published in the Federal Register. The regulatory text specifying gear restrictions did not reflect the increase in the minimum mesh size requirement for net strengtheners in the Loligo fishery from 4 ½ inches (11.43 cm) to 5 inches (12.7 cm) that was enacted in the MSB specifications and management measures for the 2010 fishing year. This document corrects that error.

DATES: Effective September 13, 2010.

FOR FURTHER INFORMATION CONTACT: Lindsey Feldman, Fisheries Management Specialist, (978) 675-2179, fax (978) 281-9135.

SUPPLEMENTARY INFORMATION:

Background

On March 11, 2010 (75 FR 11441), a final rule was published implementing Amendment 10 to the MSB FMP (Amendment 10). Amendment 10 increased the minimum codend mesh size requirement for the Loligo squid (Loligo) fishery, established a butterfish rebuilding program with a butterfish mortality cap for the Loligo fishery, established a 72-hr trip notification requirement for the Loligo fishery, and required an annual assessment of the butterfish rebuilding program by the Council's Scientific and Statistical Committee (SSC). The regulatory text specifying gear restrictions (§ 648.23) did not reflect the increase in the minimum mesh sizes requirement for net strengtheners in the Loligo fishery from 4 ½ inches (11.43 cm) to 5 inches (12.7 cm) that was implemented in the final MSB specifications and management measures for the 2010 fishing year (February 3, 2010, 75 FR 5537), and becomes effective on September 13, 2010. This document corrects this error.

Correction

Accordingly, the final rule, published on March 11, 2010, at 75 FR 11441, is corrected as follows:

1. On page 11450, beginning in column 2, § 648.23 (a)(3)(i) is correctly revised to read as follows:

§ 648.23 Gear restrictions.

(a) * * *

(3) * * *

(i) Net obstruction or constriction. Owners or operators of otter trawl vessels fishing for and/or possessing Loligo shall not use any device, gear, or material, including, but not limited to, nets, net strengtheners, ropes, lines, or chafing gear, on the top of the regulated portion of a trawl net that results in an effective mesh opening of less than 2⅛ inches (54 mm), during Trimesters I (Jan-Apr) and III (Sept-Dec), or 1⅞ inches (48 mm), during Trimester II (May-Aug), diamond mesh, inside stretch measure. “Top of the regulated portion of the net” means the 50 percent of the entire regulated portion of the net that would not be in contact with the ocean bottom if, during a tow, the regulated portion of the net were laid flat on the ocean floor. However, owners or operators of otter trawl vessels fishing for and/or possessing Loligo may use net strengtheners (covers), splitting straps, and/or bull ropes or wire around the entire circumference of the codend, provided they do not have a mesh opening of less than 5 inches (12.7 cm) diamond mesh, inside stretch measure. For the purposes of this requirement, head ropes are not to be considered part of the top of the regulated portion of a trawl net.

Dated: May 18, 2010.
Eric C. Schwaab,
Assistant Administrator For Fisheries, National Marine Fisheries Service

[FR Doc. 2010-12388 Filed 5-21-10; 8:45 am]

BILLING CODE 3510-22-S